DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from January 4 to January 8, 2010.

For further information, please contact Edson Beall via: United States Postal Service mail, at the National Register of Historic Places, 2280, National Park Service, 1849 C St. NW., Washington, DC 20240; in person (by appointment), 1201 Eye St., NW., 8th floor, Washington, DC 20005; by fax, 202-371-2229; by phone, 202-354-2255; or by e-mail, Edson_Beall@nps.gov.

Dated: March 16, 2010.
J. Paul Loether,
Chief, National Register of Historic Places/National Historic Landmarks Program.

KEY: State, County, Property Name, Address/Boundary, City, Vicinity, Reference Number, Action, Date, Multiple Name

CALIFORNIA

Humboldt County

Eureka Theatre, 612 F. St., Eureka, 09001199, LISTED, 1/07/10

Los Angeles County

Westlake Theatre, 634-642 S. Alvarado St., Los Angeles, 09001200, LISTED, 1/07/10

Sacramento County

SMUD Headquarters Building, 6301 S. St., Sacramento, 09001161, LISTED, 1/04/10

GEORGIA

Cobb County

Lake Acworth Beach and Bathhouse, Lakeshore Dr., Acworth, 09001202, LISTED, 1/07/10

IOWA

Buchanan County

Lee, Captain Daniel S. and Fannie L. (Brooks), House, 803 1st St. E., Independence, 09001203, LISTED, 1/07/10

KANSAS

Gray County

Barton, Welborn 'Doc', House, 202 S. Edwards St., Ingalls, 09001204, LISTED, 1/07/10

Sedgwick County

Blaser, Frank E., House, 136 N. Crestway Ave., Wichita, 09001205, LISTED, 1/07/10 (Residential Resources of Wichita, Sedgwick County, Kansas 1870-1957)

Guldner House, 1919 W. Douglas, Wichita, 09001206, LISTED, 1/07/10 (Residential Resources of Wichita, Sedgwick County, Kansas 1870-1957)

Trego County

Collyer Downtown Historic District, Area along Ainslie Ave., roughly bounded by 2nd St. on the N. and 4th St. on the S., Collyer, 09001207, LISTED, 1/07/10

MISSOURI

Adair County

Masonic Temple, 217 E. Harrison St., Kirksville, 09001208, LISTED, 1/07/10

MONTANA

Beaverhead County

Browne's Bridge, Browne's Bridge Fishing Access Site, Glen vicinity, 09001179, LISTED, 1/04/10 (Montana's Historic Steel Truss Bridges)

Cascade County

Hardy Bridge, Milepost 6 on Old US 91, Cascade vicinity, 09001180, LISTED, 1/04/10 (Montana's Historic Steel Truss Bridges)

Lewis and Clark County

Missouri River Bridge, Milepost 11 on Old US 91, Wolf Creek vicinity, 09001181, LISTED, 1/04/10 (Montana's Historic Steel Truss Bridges)

Mineral County

Natural Pier Bridge, Milepost 1 on S. Frontage Rd., Alberton vicinity, 09001182, LISTED, 1/04/10 (Montana's Historic Steel Truss Bridges)

Scenic Bridge, Milepost 0 on Old US 10 W., Tarkio vicinity, 09001183, LISTED, 1/04/10 (Montana's Historic Steel Truss Bridges)

Park County

Carbella Bridge, Milepost 0 on Tom Miner Rd. near jct of US 89, Gardiner vicinity, 09001184, LISTED, 1/04/10 (Montana's Historic Steel Truss Bridges)

Powell County

Little Blackfoot River Bridge, Milepost 0 on County Rd. 186 near jct. of US 12, Avon vicinity, 09001185, LISTED, 1/04/10 (Montana's Historic Steel Truss Bridges)

Prairie County

Powder River Bridge, Milepost 6 on 1-94 (Old US 10), Terry vicinity, 09001186, LISTED, 1/04/10 (Montana's Historic Steel Truss Bridges)

Yellowstone River Bridge, Milepost 1 on I-94 (Old US 10), Fallon vicinity, 09001187, LISTED, 1/04/10 (Montana's Historic Steel Truss Bridges)

Treasure County

Big Horn River Bridge, Milepost 2 on MT 104 (Old US 10), Custer vicinity, 09001188, LISTED, 1/04/10 (Montana's Historic Steel Truss Bridges)

NEW YORK

New York County

Fort Washington Presbyterian Church, 21 Wadsworth Ave., New York, 09001209, LISTED, 1/07/10

OREGON

Multnomah County

Ladd Carriage House, 1331 SW Broadway St., Portland, 09001211, LISTED, 1/07/10

PENNSYLVANIA

Philadelphia County

Pennsylvania State Office Building, 1400 Spring Garden St., Philadelphia, 09001216, LISTED, 1/07/10

WASHINGTON

Grant County

Hartline School, 92 Chelan St., Hartline, 09001217, LISTED, 1/07/10 (Rural Public Schools of Washington State MPS)

WISCONSIN

Green County

Cleveland's Hall and Blacksmith Shop, N7302 County Trunk Hwy X, Brooklyn, 09001220, LISTED, 1/07/10

WISCONSIN

Rock County

Robinson, John C. and Mary, Farmstead, 18002 W. Co. Trunk Hwy C, Union, 09001221, LISTED, 1/07/10

Dated: March 16, 2010.
J. Paul Loether,
Chief, National Register of Historic Places/National Historic Landmarks Program.

[FR Doc. 2010-6400 Filed 3-23-10; 8:45 am]

BILLING CODE 4312-51-P